DEPARTMENT OF COMMERCE

Draft DOC National Aquaculture Policy

AGENCY: Commerce.

ACTION: Notice of availability of draft aquaculture policy; request for comments.

SUMMARY: The Department of Commerce (DOC) is seeking public comment on a draft national aquaculture policy that supports sustainable aquaculture in the United States. The intent of the policy is to guide DOC's actions and decisions on aquaculture and to provide a national approach for supporting sustainable aquaculture. The National Oceanic and Atmospheric Administration (NOAA) within the Department of Commerce is also seeking public comments on a NOAA draft aquaculture policy via a separate Federal Register Notice, and will host national call-in briefings for the public on the complementary NOAA and DOC draft aquaculture policies.

DATES: Public comments must be received by midnight, EST, April 11, 2011.

ADDRESSES: The DOC draft national aquaculture policy is available online at: http://www.nmfs.noaa.gov/aquaculture/policy2/index.htm. Paper copies of this document are also available on request from NOAA Aquaculture Program, Attn: Susan Bunsick, 1315 East-West Highway, SSMC#3-13th Floor, Rm. 13152, Silver Spring, MD 20910.

You may submit comments, identified by “DOC Aquaculture Policy,” by any one of the following methods:

• Electronic Submissions: Submit all electronic public comments online by accessing http://www.nmfs.noaa.gov/aquaculture/policy2/index.htm and following the instructions for submitting comments.

• Fax: (301) 713-9108, Attn: Susan Bunsick, NOAA Aquaculture Program.

• Mail: NOAA Aquaculture Program, Attn: Susan Bunsick, 1315 East-West Highway, SSMC#3-13th Floor, Rm. 13152, Silver Spring, MD 20910. Mark the outside of the envelope, “Comments on DOC Aquaculture Policy.”

Instructions: All comments received will be posted online. Do not submit confidential business information or otherwise sensitive or protected information. All comments and attachments will be reviewed based on the commenting guidelines listed below. If you have a question about the status of your comment, send an e-mail to NOAA.Aquaculture@noaa.gov. Do not submit comments to this e-mail address. Use the comment form provided on line.

Commenting Guidelines. In accordance with DOC's and NOAA's Online Privacy Policy, we treat your name, city, state, and any comments you provide as public information. You may enter a comment as `anonymous' if you do not want this information available to the public. Also, supporting documents, links, etc., are welcome as long as they are pertinent to the policy. However, the appearance of external links, advertisements, political opinions, or other comments do not constitute endorsement by Commerce, NOAA, or that of the U.S. Government.

While this is a public process, DOC and NOAA will not post content that meets the following criteria:

Contains vulgar language, personal attacks of any kind, threats, obscenity, or offensive terms that target specific ethnic or racial groups;

Promotes services or products (non-commercial links that are relevant to the comment are acceptable);

Are far off-topic (i.e., not pertinent to the draft policy); or

Make unsupported accusations.

You may submit attachments to electronic comments in Microsoft Word, Excel, WordPerfect, or Adobe PDF file formats only.

FOR FURTHER INFORMATION CONTACT: Susan Bunsick, NOAA Aquaculture Program, (301) 713-9079; fax: (301) 713-9108.

SUPPLEMENTARY INFORMATION:

Background

The draft Commerce Department aquaculture policy supports the development of sustainable aquaculture within the context of the key Commerce goals of encouraging economic growth and employment opportunities in the United States.

Informational Briefings for the Public

The NOAA Aquaculture Program will host a series of informational briefings for stakeholders interested in learning more the complementary draft DOC and NOAA aquaculture policies. The briefings are as follows:

Feb. 16, 2011

10-11 a.m. (Eastern)

Call-in—800-369-1823, Passcode: Aquaculture.

4-5 p.m. (Eastern)

Call-in #—800-369-1823, Passcode: Aquaculture.

Feb. 23, 2011

10-11 a.m. (Eastern)

Call-in #—800-369-1823, Passcode: Aquaculture.

4-5 p.m. (Eastern)

Call-in #—800-369-1823, Passcode: Aquaculture.

Rebecca Blank,
Acting Deputy Secretary, Department of Commerce.

[FR Doc. 2011-3427 Filed 2-15-11; 8:45 am]

BILLING CODE 3510-22-P